DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Management and Oversight of the National Estuarine Research Reserve System.

OMB Control Number: 0648-0121.

Form Number(s): NA.

Type of Request: Regular submission (extension of a current information collection).

Number of Respondents: 29.

Average Hours Per Response: Grant applications, 8 hours; additional documentation with applications, 1 hour; grant progress reports, 5 hours; grant final reports, 2 hours; management plans and site profiles, 1,800 hours each; site designations, 2,500 hours.

Burden Hours: 8,909.

Needs and Uses: This request is for extension of a current information collection.

The Coastal Zone Management Act of 1972 (CZMA; 16 U.S.C. 1461 et seq.) provides for the designation of estuarine research reserves representative of various regions and estuarine types in the United States to provide opportunities for long-term research, education and interpretation. During the site selection and designation process, information is collected from states in order to prepare a management plan and environmental impact statement. Designated reserves apply annually for operations funds by submitting a work plan; subsequently progress reports are required every six months for the duration of the award. Each reserve compiles an ecological characterization or site profile to describe the biological and physical environment of the reserve, research to date and research gaps. Reserves revise their management plans every five years. This information is required to ensure that reserves are adhering to regulations and that the reserves are in keeping with the purpose for which they were designated.

Affected Public: Not-for-profit institutions; state, local and tribal governments.

Frequency: Annually, semiannually, every three years and every five years.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: January 21, 2014.
Gwellnar Banks,
Management Analyst, Office of the Chief Information Officer.

[FR Doc. 2014-01432 Filed 1-24-14; 8:45 am]

BILLING CODE 3510-08-P